DEPARTMENT OF HOUSING AND URBAN DEVELOPMENT

[Docket No. FR-5907-N-20]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), or call the toll-free title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, and suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to: Ms. Theresa M. Ritta, Chief Real Property Branch, the Department of Health and Human Services, Room 5B-17, Parklawn Building, 5600 Fishers Lane, Rockville, MD 20857, (301) 443-2265 (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Ann Marie Oliva at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: AGRICULTURE: Ms. Debra Kerr, Department of Agriculture, Reporters Building, 300 7th Street SW., Room 300, Washington, DC 20024, (202) 720-8873; AIR FORCE: Mr. Robert E. Moriarty, P.E., AFCEC/CI, 2261 Hughes Avenue, Ste. 155, JBSA Lackland, TX 78236-9853; ARMY: Ms. Veronica Rines, Office of the Assistant Chief of Staff for Installation Management, Department of Army, Room 5A128, 600 Army Pentagon, Washington, DC 20310, (571) 256-8145; ENERGY: Mr. David Steinau, Department of Energy, Office of Property Management, OECM MA-50, 4B122, 1000 Independence Ave. SW., Washington, DC 20585, (202) 287-1503; GSA: Mr. Flavio Peres, General Services Administration, Office of Real Property Utilization and Disposal, 1800 F Street NW., Room 7040 Washington, DC 20405, (202) 501-0084; INTERIOR: Mr. Michael Wright, Acquisition & Property Management, Department of the Interior, 3960 N. 56th Ave. #104, Hollywood, FL 33021; (443) 223-4639; NASA: Mr. Frank T. Bellinger, Facilities Engineering Division, National Aeronautics & Space Administration, Code JX, Washington, DC 20546, (202) 358-1124; NAVY: Mr. Steve Matteo, Department of the Navy, Asset Management Division, Naval Facilities Engineering Command, Washington Navy Yard, 1330 Patterson Ave. SW., Suite 1000, Washington, DC 20374; (202) 685-9426; (These are not toll-free numbers).

Dated: May 5, 2016.
Brian P. Fitzmaurice,
Director, Division of Community Assistance, Office of Special Needs Assistance Programs.

TITLE V, FEDERAL SURPLUS PROPERTY PROGRAM FEDERAL REGISTER REPORT FOR 05/13/2016

Suitable/Available Properties

Building

California

14 Buildings

Naval Base Ventura County

Point Mugu CA 93043

Landholding Agency: Navy

Property Number: 77201620013

Status: Unutilized

Directions: Building 217SNI; 115SNI; 116SNI; 207SNI; 74SNI; 146SNI; 68SNI; 302SNI; 121SNI; 19SNI; 2SNI; 214A; 228SNI; 116A

Comments: public access denied and no alternative method to gain access without compromising national security.

Idaho

Doublewide Trailer #6, Challis

221 South US Highway 93

Challis ID 83226

Landholding Agency: Agriculture

Property Number: 15201620020

Status: Excess

Directions: 2T1156, RPUID B1084.002901

Comments: off-site removal only; 49+ yrs. old; 1,140 sq. ft.; housing; contact Agriculture for more information.

Kentucky

Stearns Residence #3 (128)

248 Ranger Station Road

Whitley City KY 42653

Landholding Agency: Agriculture

Property Number: 15201620018

Status: Unutilized

Directions: off-site removal only; removal extremely difficult; no future agency need

Comments: 41+ yrs. old; 2,566 sq. ft.; residential; 6+ mos. vacant; good condition; $2,500 in repairs needed; contact Agriculture for more information.

Pine Knot Job Corps Residence

#2 (131)

132 Job Corps Road

Pine Knot KY 42635

Landholding Agency: Agriculture

Property Number: 15201620019

Status: Unutilized

Comments: off-site removal only no future agency use 40+ yrs. old; 1,300 sq. ft.; residential; 6+ mos. vacant; poor condition; contact Agriculture for more information.

Stearns Residence #2 (106)

201 Ranger Station Road

Whitley City KY 42653

Landholding Agency: Agriculture

Property Number: 15201620021

Status: Unutilized

Comments: off-site removal only no future agency use 50+ yrs. old; 1,367 sq. ft.; residential; 6+ mos. vacant; poor condition; $50,000 repairs needed; contact Agriculture for more information.

Pine Knot Job Corps Residence

#1 (130)

132 Job Corps Road

Pine Knot KY 42635

Landholding Agency: Agriculture

Property Number: 15201620022

Status: Unutilized

Comments: off-site removal only no future agency use 41+ yrs. old, 1,300 sq. ft.; residential; 6+ mos. vacant; poor condition; contact Agriculture for more information.

Pine Knot Job Corps Residence

#3 (132)

132 Job Corps Road

Pine Knot KY 42635

Landholding Agency: Agriculture

Property Number: 15201620023

Status: Unutilized

Comments: off-site removal only no future agency use; 39+ yrs. old; 1,300 sq. ft.; residential; 6+ mos. vacant; poor condition; contact Agriculture for more information.

Stonewall Residence (522)

870 Stonewall Road

Monticello KY

Landholding Agency: Agriculture

Property Number: 15201620024

Status: Unutilized

Comments: off-site removal only no future agency use; 40+ yrs. old; 800 sq. ft.; residential; 6+ mos. vacant; poor condition; contact Agriculture for more information.

Stearns Residence #1 (107)

142 Ranger Station Road

Whitley City KY 42653

Landholding Agency: Agriculture

Property Number: 15201620025

Status: Unutilized

Comments: off-site removal only; no future agency use: 75+ yrs. old; 1,332 sq. ft.; residential; 6+ mos. vacant; fair condition; contact Agriculture

North Carolina

3 Buildings

OLF NAS Oceana

Plymouth NC

Landholding Agency: GSA

Property Number: 54201620006

Status: Surplus

GSA Number: 4-D-NC-0831-AG

Directions: Landholding Agency: Navy; Disposal Agency: GSA 4-D-NC-0831-AG (013); 4-D-NC-0831-AC (004); 4-D-NC-0831-AD (007); 4-D-NC-0831-AE (007A).

Comments: 26+ yrs. old; storage; 120+ mos. vacant; good condition; contact GSA for more information.

Texas

Austin U.S. Courthouse

200 W. 8th Street

Austin TX 78701

Landholding Agency: GSA

Property Number: 54201620010

Status: Excess

GSA Number: 7-G-TX-1170-AA

Comments: 63,264 sq. ft.; sits on 0.81 fee acres; on National Register of Historic Places; contact GSA for more information.

Utah

Timpanogos Cave National

Monument

2038 Alpine Loop Road

American Fork UT 84003

Landholding Agency: Interior

Property Number: 61201620004

Status: Excess

Comments: off-site removal only; 25+ yrs. old; 2,343 sq. ft.; 2+ mos. vacant; poor condition; maybe difficult to move; contact Interior for more information.

Virginia

2799 Harrison Loop

JBLE Ft. Eustis

Ft. Eustis VA

Landholding Agency: Air Force

Property Number: 18201620011

Status: Unutilized

Comments: off-site removal only; no future agency need; Admin.; 5,700 sq. ft.; extreme. difficult to remove; very poor conditions; lead; contact Air Force for more info.

2785 Harrison Loop

JBLE Ft. Eustis

Ft. Eustis VA

Landholding Agency: Air Force

Property Number: 18201620012

Status: Unutilized

Comments: off-site removal only; no future agency need; 7,715 sq. ft.; extreme. difficult to remove; Admin. very poor conditions; contact Air Force for more info.

811 Gaffy Place

JBLE Ft. Eustis

Ft. Eustis VA

Landholding Agency: Air Force

Property Number: 18201620013

Status: Unutilized

Comments: off-site removal only; no future agency need; extreme. difficult to remove; 40,166 sq. ft.; barracks; very poor conditions; contact Air Force for more info.

652 Williamson Loop

JBLE Ft. Eustis

Ft. Eustis VA

Landholding Agency: Air Force

Property Number: 18201620014

Status: Unutilized

Comments: off-site removal only; no future agency need; extreme. difficult remove; 3,214 sq. ft.; storage; very poor conditions; contact Air Force for more info.

2749 Taylor Ave.

JBLE Ft. Eustis

Ft. Eustis VA

Landholding Agency: Air Force

Property Number: 18201620015

Status: Unutilized

Comments: off-site removal only; no future agency need; 100 sq. ft.; storage; very poor conditions; contact Air Force for more info.

3511 Mulberry Island Rd.

null

Ft. Eustis VA 23604

Landholding Agency: Air Force

Property Number: 18201620016

Status: Unutilized

Comments: off-site removal only; no future agency need; 437 sq. ft.; 2+ months vacant; very poor conditions; contact Air Force for more info.

822 Lee Blvd.

null

Ft. Eustis VA 23604

Landholding Agency: Air Force

Property Number: 18201620017

Status: Unutilized

Comments: off-site removal only; no future agency need; 205 sq. ft.; Heat Plant; 7+ months vacant; very poor conditions; contact Air Force for more info.

876 Lee Blvd.

JBLE

Ft. Eustis VA 23604

Landholding Agency: Air Force

Property Number: 18201620018

Status: Unutilized

Comments: off-site removal only; no future agency need; 651 sq. ft.; office; very poor conditions; contact Air Force for more info.

2703 Marshall St.

Ft. Eustis VA 23604

Landholding Agency: Air Force

Property Number: 18201620019

Status: Unutilized

Comments: off-site removal only; no future agency need; difficult to remove; 1,200 sq. ft.; storage; very poor conditions; contact Air Force for more info.

3913 Mulberry Island Rd.

Ft. Eustis VA 23604

Landholding Agency: Air Force

Property Number: 18201620020

Status: Unutilized

Comments: off-site removal only; no future agency need; 767 sq. ft.; very poor conditions; contact Air Force for more info.

2794 Harrison Loop

JBLE

Ft. Eustis VA

Landholding Agency: Air Force

Property Number: 18201620022

Status: Unutilized

Comments: off-site removal only; no future agency need extreme. difficult to remove; 6,782 sq. ft.; Admin.; very poor conditions; contact Air Force for more info.

2 Buildings

Richmond National Battlefield

Mechanicsville VA 23111

Landholding Agency: Interior

Property Number: 61201620001

Status: Excess

Directions: Tract 01-259 Owens House (1,302 sq. ft.) & Tract 01-135 Foss House (1,928 sq. ft.)

Comments: off-site removal only; 43+-44+ yrs. old; residential; 15+-27+ mos. vacant; fair condition; does not meet health, safety & fire codes; maybe difficult to move; contact Interior for more information.

Thornton Gap Waste Eater Treat

210 Thornton Gap Waste Water Treatment Road

Luray VA 22835

Landholding Agency: Interior

Property Number: 61201620002

Status: Excess

Comments: off-site removal only; 40+ yrs. old; 2,742 sq. ft.; waste water treatment facility; 80+ mos. vacant; poor condition; contact Interior for more information.

Loft Mountain Picnic Area Comf

79450 Skyline Dr. to Loft Mountain Access Rd.

RT 76

Crozet VA 22932

Landholding Agency: Interior

Property Number: 61201620003

Status: Excess

Comments: off-site removal only; 53+ yrs. old; 372 sq. ft.; restroom; 102+ mos. vacant; poor condition; contact Interior for more information.

Ellwood Garage

36380 Constitution Hwy.

Locust Grove VA 22960

Landholding Agency: Interior

Property Number: 61201620009

Status: Excess

Comments: off-site removal only; 51+ yrs. old; 550 sq. ft.; storage; 2+ mos. vacant; fair condition; contact Interior for more information.

2 Buildings

150 & 162 Meadows Office Rd.

Stanley VA 22851

Landholding Agency: Interior

Property Number: 61201620010

Status: Excess

Directions: Big Meadows Employee Apartment Bldg. BM07-25; Big Meadows Office (former apartments) Bldg. BM07-26

Comments: off-site removal only; 2,313 sq. ft. each; removal difficult due to size/type; poor conditions; asbestos/lead; contact Interior for more information.

Washington

Royal Quonset Hut Storage

11522 1st Ave. SE

Othello WA 99344

Landholding Agency: Interior

Property Number: 61201620007

Status: Excess

Directions: RPUID: R0222142300B

Comments: off-site removal only; 63+ yrs. old; 850 sq. ft.; storage; poor condition; contact Interior for more information.

Suitable/Available Properties

Land

North Carolina

1951.24 Acres of Land

OLF NAS Oceana

Plymouth NC

Landholding Agency: GSA

Property Number: 54201620008

Status: Surplus

GSA Number: 4-D-NC-0831-AA

Directions: Landholding Agency: Navy; Disposal Agency: GSA GSA # 4-D-NC-0831-AH (025); 4-D-NC-0831-AA (002); 4-D-NC-0831-AB (003); 4-D-NC-0831-AF (010); 4-D-NC-0831-AA (Parcel 002)

Comments: 1951.24 acres land; agricultural; license for agriculture use expires 03/31/17 with the Government retaining termination rights upon providing licensee 60-day notice.

Tennessee

Self-Sufficiency Parcel 13

Anderson County

Oak Ridge TN 37830

Landholding Agency: GSA

Property Number: 54201620005

Status: Surplus

GSA Number: 4-B-TN-0664-AH

Directions: Landholding Agency: Energy; Disposal Agency: GSA

Comments: 20 acres; 2 sinkholes with eroded wet weather conveyance draining to them; contact GSA for more information.

Unsuitable Properties

Building

California

2 Buildings

PO Box 273, MS 4811

Edwards CA 93523

Landholding Agency: NASA

Property Number: 71201620006

Status: Excess

Directions: Building 4875B & 4875A

Comments: public access denied and no alternative method to gain access without compromising national security.

Reasons: Secured Area

8 Buildings

PO Box 273, MS 4811

Edwards CA 93523

Landholding Agency: NASA

Property Number: 71201620007

Status: Underutilized

Directions: Building 4807; 4806; 4808; 4850; 4803; 4809; 4805; T-20

Comments: public access denied and no alternative method to gain access without compromising national security.

Reasons: Secured Area

2 Buildings

PO Box 273, MS 4811

Edwards CA 93523

Landholding Agency: NASA

Property Number: 71201620009

Status: Unutilized

Directions: Building 4985 & 4990

Comments: public access denied and no alternative method to gain access without compromising national security.

Reasons: Secured Area

4 Buildings

Naval Base Ventura County

Point Mugu CA 93043

Landholding Agency: Navy

Property Number: 77201620010

Status: Unutilized

Directions: Building PM208; PM210; PM11; PM215

Comments: public access denied and no alternative method to gain access without compromising national security.

Reasons: Secured Area

Building 809SNI

311 Main Street

Point Mugu CA 93043

Landholding Agency: Navy

Property Number: 77201620011

Status: Unutilized

Comments: public access denied and no alternative method to gain access without compromising national security.

Reasons: Secured Area

Florida

Tillie Fowler Admin. & Ground

200 Norman Street

Jacksonville FL 32212

Landholding Agency: Navy

Property Number: 77201620012

Status: Unutilized

Directions: 1906TK & 1906A

Comments: public access denied and no alternative method to gain access w/compromising national security; property located w/airport runway clear zone or military airfield.

Reasons: Secured Area

Building 2277

US Naval Hospital Complex/Corry Station

US Naval Hospital Com FL 32508

Landholding Agency: Navy

Property Number: 77201620015

Status: Unutilized

Comments: public access denied and no alternative method to gain access without compromising national security; property located within floodway, which has not been correct or contained.

Reasons: Floodway; Secured Area

Georgia

Savannah HHIAP

Fac. 1907 & 1917 XDQU

1401 Robert B. Miller Dr.

Garden City GA

Landholding Agency: Air Force

Property Number: 18201620010

Status: Underutilized

Comments: public access denied and no alternative without compromising national security.

Reasons: Secured Area

5 Buildings

Cumberland Island National Seashore

St. Mary's GA 31558

Landholding Agency: Interior

Property Number: 61201620008

Status: Excess

Directions: Jenkins #1; #2; #3, Nancy's Fancy; Toonahowie

Comments: all properties are located on Cumberland Island, which is not connected to the mainland by road or bridge and only accessible by boat.

Reasons: Isolated area

Indiana

Bldg. 31

181 IW; 8001 Reinoehl Rd.

Terre Haute IN 47803

Landholding Agency: Air Force

Property Number: 18201620009

Status: Unutilized

Comments: public access denied and no alternative method to gain access without compromising national security.

Reasons: Secured Area

Kansas

123 RPUID: 586630

Ft. Leavenworth

Ft. Leavenworth KS 66027

Landholding Agency: Army

Property Number: 21201620019

Status: Unutilized

Comments: documented deficiencies: structurally unsound; holes in roof that has resulted in significant water damage to interior; clear threat to physical safety.

Reasons: Extensive deterioration

Mississippi

Bldg. 4302 Test Complex Shop Facility

Stennis Space Center

Hancock County MS 39529

Landholding Agency: NASA

Property Number: 71201620010

Status: Unutilized

Comments: public access denied and no alternative method to gain access without compromising national security.

Reasons: Secured Area

Bldg. 4301 Test Complex

Office Facility

Stennis Space Center

Hancock County MS 39529

Landholding Agency: NASA

Property Number: 71201620011

Status: Unutilized

Comments: public access denied and no alternative method to gain access without compromising national security.

Reasons: Secured Area

Nevada

4 Buildings

Sandia National Laboratories

Tonopah NV 89049

Landholding Agency: Energy

Property Number: 41201620003

Status: Excess

Directions: Buildings 09-50; 09-51; 09-60; 09-54.

Comments: public access denied and no alternative method to gain access without compromising national security.

Reasons: Secured Area

New Mexico

4 Buildings

Bandelier National Monument

Los Alamos NM 87544

Landholding Agency: Interior

Property Number: 61201620005

Status: Excess

Directions: Building MH129; MH127; MH128; MH126.

Comments: can only be entered wearing tyvek suits & respirator for possible Hanta Virus contaminants.

Reasons: Contamination

Ohio

RPUID #524102

(Traffic Chk Hse Bldg. 108)

Springfield Beckley Air National Guard

Springfield OH 45502

Landholding Agency: Air Force

Property Number: 18201620008

Status: Unutilized

Directions: 1337 West Blee Rd.

Comments: public access denied and no alternative method to gain access without compromising national security.

Reasons: Secured Area

Pennsylvania

2 Buildings

Gettysburg National Military Park

Gettysburg PA 17325

Landholding Agency: Interior

Property Number: 61201620006

Status: Excess

Directions: Tract 08-103 & Tract 02-107.

Comments: documented deficiencies: foundation support posts in the basement are rotted off at the base & no longer can support the floors; walls shifting; numerous structural issues; rotten roof.

Reasons: Extensive deterioration

South Carolina

13 Buildings

MCRD Parris Island

MCRD Parris Island SC

Landholding Agency: Navy

Property Number: 77201620014

Status: Excess

Directions: Building 293; 765, 1012, 1013, 4030, 5101, 5102, 5103, 5104, 6201, 6202, 6203, 6204

Comments: public access denied and no alternative method to gain access without compromising national security; property located within floodway which has not been correct or contained.

Reasons: Secured Area

Virginia

4 Buildings

9713 Plank Rd.

Spotsylvania VA 22553

Landholding Agency: Interior

Property Number: 61201620011

Status: Excess

Directions: Tract #03-178 Verna House; Verna Chicken Coop; Verna Storage Bldg.; Verna Barn

Comments: bldgs. are structural unsound; significant overgrowth of vegetation; severe cracks in structures; removal will result in collapse; clear threat to physical safety.

Reasons: Extensive deterioration

[FR Doc. 2016-11046 Filed 5-12-16; 8:45 am]

BILLING CODE 4210-67-P